DEPARTMENT OF HEALTH AND HUMAN SERVICES

Administration for Community Living

Agency Information Collection Activities; Proposed Collection; Comment Request; Data Collection Materials for the Evaluation of the Administration for Community Living's American Indian, Alaska Natives and Native Hawaiian Programs (OAA Title VI) OMB #0985-0059

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the Proposed Revision for the information collection requirements related to Evaluation of the Administration for Community Living's American Indian, Alaska Natives and Native Hawaiian Programs (OAA Title VI).

DATES: Comments on the collection of information must be submitted electronically by 11:59 p.m. (EST) or postmarked by July 20, 2020.

ADDRESSES: Submit electronic comments on the collection of information to: Kristen Hudgins. Submit written comments on the collection of information to Administration for Community Living, Washington, DC 20201, Attention: Kristen Hudgins.

FOR FURTHER INFORMATION CONTACT: Kristen Hudgins, Administration for Community Living, Washington, DC 20201, Kristen.hudgins@acl.hhs.gov or 202-795-7732.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The Administration for Community Living (ACL) is requesting approval for a revised data collection associated with the Evaluation of the Administration for Community Living's (ACL) American Indian, Alaska Natives, and Native Hawaiian Programs (Older Americans Act [OAA] Title VI; short title: Evaluation of the Title VI Programs). OAA Title VI establishes grants to Native Americans for nutrition services, supportive services, and family caregiver support services. The purpose of Title VI is “to promote the delivery of supportive services, including nutrition services, to American Indians, Alaskan Natives, and Native Hawaiians that are comparable to services provided under Title III” (42 U.S.C. 3057), which provides nutrition, caregiver and supportive services to the broader U.S. population. Title VI is comprised of three parts; Part A provides nutrition and supportive services to American Indians and Alaska Natives, Part B provides nutrition and supportive services to Native Hawaiians, and Part C provides caregiver services to any programs that have Part A/B.

The evaluation will consist of six data collection activities: (1) Tribal program staff interviews; (2) tribal program staff focus groups, (3) tribal elder focus groups, (4) tribal elder interviews, (5) tribal caregiver focus groups, and (6) follow-up tribal program staff interview.

ACL is requesting to revise the currently approved data collection under OMB 0985-0059 by removing the caregiver survey and adding a follow-up tribal program staff interview. The proposed revisions also include removing annual performance reporting data elements from the currently approved IC under OMB 0985-0059 to the OMB approved Title VI Annual Performance Report under OMB 0985-0007.

For review and comment on this proposed information collection request, please visit the ACL website https://www.acl.gov/about-acl/public-input.

Estimated Program Burden: ACL estimates the burden associated with this collection of information as follows:

Respondent type | Form name | Number of annual respondents | Number of responses per respondent | Average burden per response (in hours) | Annual burden hours
Program director | Program staff interview guide | 12 | 1 | 1 | 12
Program director | Program staff focus group moderator guide | 12 | 1 | 2 | 24
Program director | Program staff follow-up interview guide | 12 | 1 | 1 | 12
Other Program Staff | Tribal program staff interview guide | 12 | 1 | 1 | 12
Other Program Staff | Tribal program staff focus group moderator guide | 12 | 1 | 2 | 20
Tribal elder | Tribal elder focus group moderator guide | 100 | 1 | 2 | 200
Tribal elder | Tribal elder interview guide | 20 | 1 | 1 | 20
Caregiver | Tribal caregiver focus group moderator guide | 87 | 1 | 2 | 174
Total |  | 267 |  |  | 474

Dated: May 12, 2020.
Mary Lazare,
Principal Deputy Administrator.

[FR Doc. 2020-10671 Filed 5-18-20; 8:45 am]

BILLING CODE 4154-01-P